NATIONAL AERONAUTICS AND SPACE ADMINISTRATION

[Notice: (10-113)]

NASA Advisory Council; Meeting.

AGENCY: National Aeronautics and Space Administration.

ACTION: Notice of meeting.

SUMMARY: In accordance with the Federal Advisory Committee Act, Public Law 92-463, as amended, the National Aeronautics and Space Administration announces a meeting of the NASA Advisory Council.

DATES: Wednesday, October 6, 2010, 8 a.m.-5 p.m. (local time). Thursday, October 7, 2010, 8 a.m.-12 noon (local time).

ADDRESSES: The AERO Institute, 38256 Sierra Highway, Palmdale, CA 93550.

FOR FURTHER INFORMATION CONTACT: Ms. Marla King, NAC Administrative Officer, National Aeronautics and Space Administration Headquarters, Washington, DC 20546, (202) 358-1148.

SUPPLEMENTARY INFORMATION: The agenda for the meeting will include reports from the NAC Committees:

—Aeronautics.

—Audit, Finance, and Analysis.

—Commercial Space.

—Education and Public Outreach.

—Exploration.

—Information Technology Infrastructure.

—Science.

—Space Operations.

—Technology and Innovation.

The meeting will be open to the public up to the seating capacity of the room. It is imperative that the meeting be held on this date to accommodate the scheduling priorities of the key participants. Due to technical problems associated with original publication, this meeting notice is being re-submitted for publication less than 15 days in advance.

Dated: September 23, 2010.
P. Diane Rausch,
Advisory Committee Management Officer, National Aeronautics and Space Administration.

[FR Doc. 2010-24348 Filed 9-23-10; 4:15 pm]

BILLING CODE P